DEPARTMENT OF AGRICULTURE

Forest Service

Stanislaus National Forest, CA; Notice of Intent To Prepare an Environmental Impact Statement for Rim Fire Reforestation

AGENCY: Forest Service, USDA.

ACTION: Notice of intent to prepare an Environmental Impact Statement.

SUMMARY: The Stanislaus National Forest proposes about 42,000 acres of reforestation, plantation thinning, additional deer habitat and noxious weed treatments on National Forest System (NFS) lands within the 2013 Rim Fire in order to: Return mixed conifer forest to the landscape; restore old forest for wildlife; reduce fuels; enhance deer habitat; and, eradicate noxious weeds.

DATES: Comments on the proposed action should be submitted within 45 days of the date of publication of this Notice of Intent. Completion of the Draft Environmental Impact Statement (EIS) is expected in November 2015 followed by the Final EIS and Draft Record of Decision (ROD) in May 2016. A final decision is expected in August 2016.

ADDRESSES: Comments may be: mailed to the Stanislaus National Forest; Attn: Rim Reforestation; 19777 Greenley Road; Sonora, CA 95370; delivered to the address shown during business hours (M-F 8:00 am to 4:30 pm); or, submitted by FAX (209) 533-1890. Submit electronic comments, in common (.doc, .pdf, .rtf, .txt) formats, to: comments-pacificsouthwest-stanislaus@fs.fed.us with Subject: Rim Reforestation.

FOR FURTHER INFORMATION CONTACT: Maria Benech, Stanislaus National Forest; 19777 Greenley Road; Sonora, CA 95370; phone (209) 532-3671; or email: mbenech@fs.fed.us. A scoping package, maps and other information are online at: http://www.fs.usda.gov/project/?project=45612.

SUPPLEMENTARY INFORMATION:

General Background

The Rim Fire started on August 17, 2013 in a remote area of the Stanislaus National Forest near the confluence of the Clavey and Tuolumne Rivers about 20 miles east of Sonora, California. Over the next several weeks it burned 257,314 acres, including 154,430 acres of NFS lands, becoming the third largest wildfire in California history. The Rim Fire Reforestation project is located within the Rim Fire perimeter in the Stanislaus National Forest on portions of the Mi-Wok and Groveland Ranger Districts.

Purpose and Need for Action

The primary purposes of the project are to: (1) Return Mixed Conifer Forest to the Landscape; (2) Restore Old Forest for Wildlife Habitat and Connectivity; (3) Reduce Fuels for Future Fire Resiliency; (4) Enhance Deer Habitat; and, (5) Eradicate Noxious Weeds.

Proposed Action

The Forest Service proposed action includes about 42,000 acres of reforestation, plantation thinning, additional deer habitat and noxious weed eradication treatments on NFS lands within the 2013 Rim Fire.

Reforestation treatments (30,065 acres) include: Hand, mechanical and manual herbicide site preparation (Glyphosate); prescribed burning; planting a diversity of conifer tree species using various patterns and densities (trees per acre) across the landscape (up and down slopes with fewer on ridges and more in drainage bottoms) to develop resilient mixed conifer forest and enhance wildlife (including deer) habitat; manual herbicide release (Glyphosate) when vegetation competition begins to inhibit survival and growth; and, noxious weed eradication as described below. The reforestation treatment (30,065 acres) includes thinning and planting on 7,307 acres of existing plantations currently under-stocked due to high burn severity from the 2013 Rim Fire.

Plantation Thinning treatments (11,359 acres) include: Hand and mechanical site preparation; prescribed burning and thinning to achieve an Individual, Clumpy, Open (ICO) pattern to maximize heterogeneity and wildlife (including deer) habitat while creating more fire resilient stands; and, noxious weed eradication as described below.

Additional Deer Habitat treatments (407 acres) include: Prescribed burning; and, noxious weed eradication as described below.

Noxious Weed Eradication treatments (4,160 acres) include: Weed treatments with a variety of EPA approved herbicides (such as Glyphosate, Clopyralid, Aminopyralid, Clethodim and Fluazifop-P-butyl). These noxious weed treatments overlap (within and up to 100 feet adjacent to) the reforestation, plantation thinning and additional deer habitat treaments described above.

No treatments are proposed within Wilderness, Inventoried Roadless Areas, or the wild classification segments of Wild and Scenic Rivers or Proposed Wild and Scenic Rivers. Project design will incorporate Best Management Practices (BMPs) according to regional and national guidance. Implementation is expected to begin in fall 2016 and continue for up to 10 years.

Possible Alternatives

In addition to the Proposed Action, the EIS will evaluate the required No Action alternative and likely consider other alternatives identified through the inderdisciplinary process and public participation.

Responsible Official

Jeanne M. Higgins, Forest Supervisor; Stanislaus National Forest; 19777 Greenley Road; Sonora, CA 95370.

Nature of Decision To Be Made

The responsible official will decide whether to adopt and implement the proposed action, an alternative to the proposed action, or take no action with respect to the Rim Fire Reforestation project.

Scoping Process

Public participation is important at numerous points during the analysis. The Forest Service seeks information, comments and assistance from federal, state, and local agencies and individuals or organizations that may be interested in or affected by the proposed action.

The Forest Service conducts scoping according to the Council on Environmental Quality (CEQ) regulations (40 CFR 1501.7). In addition to other public involvment, this Notice of Intent initiates an early and open process for determining the scope of issues to be addressed in the EIS and for identifying the significant issues related to a proposed action. This scoping process allows the Forest Service to not only identify significant environmental issues deserving of study, but also to deemphasize insignificant issues, narrowing the scope of the EIS process accordingly (40 CFR 1500.4(g)).

Comment Requested

This Notice of Intent initiates the scoping proces which guides the development of the EIS. Comments on the proposed action should be submitted within 45 days of the date of publication of this Notice of Intent.

Early Notice of Importance of Public Participation in Subsequent Environmental Review

A draft EIS will be available for comment when the Environmental Protection Agency publishes the notice of availability in the Federal Register. The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate during the comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: February 20, 2015.
Jeanne M. Higgins,
Forest Supervisor.

[FR Doc. 2015-04109 Filed 2-26-15; 8:45 am]

BILLING CODE 3410-11-P